ENVIRONMENTAL PROTECTION AGENCY

40 CFR Part 52

[EPA-R04-OAR-2015-0313; FRL-9934-49-Region 4]

Approval and Promulgation of Implementation Plans for the State of Alabama: Cross-State Air Pollution Rule

AGENCY: Environmental Protection Agency (EPA).

ACTION: Withdrawal of direct final rule.

SUMMARY: Due to adverse comments received, the Environmental Protection Agency (EPA) is withdrawing the direct final approval of a revision to the Alabama State Implementation Plan (SIP), submitted by the State of Alabama, through the Alabama Department of Environmental Management (ADEM) on March 27, 2015. EPA stated in the direct final rule that if EPA received adverse comments by August 26, 2015, the direct final rule would be withdrawn and not take effect.

DATES: This withdrawal is effective September 22, 2015.

FOR FURTHER INFORMATION CONTACT: Twunjala Bradley, Air Regulatory Management Section, Air Planning and Implementation Branch, Air, Pesticides and Toxics Management Division, U.S. Environmental Protection Agency Region 4, 61 Forsyth Street SW., Atlanta, Georgia 30303-8960. Ms. Bradley's phone number is (404) 562-9352. She can also be reached via electronic mail at bradley.twunjala@epa.gov.

SUPPLEMENTARY INFORMATION: On July 27, 2015, EPA published direct final and proposed rulemaking notices to approve a SIP revision submitted by the State of Alabama through ADEM on March 27, 2015. See 80 FR 44292 and 80 FR 44320. Alabama's March 27, 2015, SIP revision provides state-determined allowance allocations for existing electric generating units in Alabama for the 2016 control periods and replaces the allowance allocations for the 2016 control periods established by EPA under the Cross-State Air Pollution Rule (CSAPR). The CSAPR addresses the “good neighbor” provision of the Clean Air Act that requires states to reduce the transport of pollution that significantly affects downwind nonattainment and maintenance areas. In the July 27, 2015, notices, EPA stated that if adverse comments were received by August 26, 2015, EPA would publish a notice in the Federal Register withdrawing the final rule and informing the public that the rule would not take effect. EPA received a single adverse comment on the proposed rulemaking and is withdrawing the direct final rule. EPA will address the adverse comment in a final action based upon the proposed rulemaking action published on July 27, 2015 (80 FR 44320). As stated in the proposed rulemaking, EPA will not institute a second comment period on this action.

List of Subjects in 40 CFR Part 52

Environmental protection, Air pollution control, Intergovernmental relations, Ozone, Particulate matter, Reporting and recordkeeping requirements, Volatile organic compounds.

Dated: September 11, 2015.
Heather McTeer Toney,
Regional Administrator, Region 4.

Accordingly, the amendments to 40 CFR 52.50, 52.54 and 52.55 published in the Federal Register on July 27, 2015 (80 FR 44292), which were to become effective on September 25, 2015, are withdrawn.

[FR Doc. 2015-24050 Filed 9-21-15; 8:45 am]

BILLING CODE 6560-50-P